DEPARTMENT OF HOUSING AND URBAN DEVELOPMENT

[Docket No. FR-5415-N-30]

Notice of Availability: Notice of Funding Availability (NOFA) for Fiscal Year 2010; Technical Assistance and Capacity Building Under the Transformation Initiative; Request for Qualifications

AGENCY: Office of the Chief of the Human Capital Officer, HUD.

ACTION: Notice.

SUMMARY: HUD announces the availability on its Web site of the applicant information, submission deadlines, funding criteria, and other requirements for HUD's Fiscal Year 2010 Notice of Funding Availability (NOFA) for Technical Assistance and Capacity Building under the Transformation Initiative. The OneCPD Integrated Practitioner Assistance System (OneCPD) represents a fundamental change in the way HUD's traditional “program-specific” technical assistance has been structured and delivered over the years to state and local government grantees, and nonprofits. Beyond improving the effectiveness of current technical assistance efforts by adopting a “cross-program” approach, OneCPD is intended as a collaborative effort among HUD, our state and local partners and successful applicants focused on building the kind of grantee management systems and functional capacity necessary to successfully carry out comprehensive and sustainable “place-based” development and revitalization strategies.

The notice providing information regarding the application process, funding criteria and eligibility requirements can be found using the Department of Housing and Urban Development agency link on the Grants.gov/Find Web site at http://www.grants.gov/search/agency.do. A link to Grants.gov is also available on the HUD Web site at http://www.hud.gov/offices/adm/grants/fundsavail.cfm. The Catalogue of Federal Domestic Assistance (CFDA) number for this program is 14.259. Applications must be submitted electronically through Grants.gov.

FOR FURTHER INFORMATION CONTACT: Questions regarding specific program requirements should be directed to the agency contact identified in the program NOFA. Program staff will not be available to provide guidance on how to prepare the application. Questions regarding the 2010 General Section should be directed to the Office of Grants Management and Oversight at (202) 708-0667 or the NOFA Information Center at 800-HUD-8929 (toll free). Persons with hearing or speech impairments may access these numbers via TTY by calling the Federal Information Relay Service at 800-877-8339.

Dated: December 29, 2010.
Barbara S. Dorf,
Director, Office of Departmental Grants Management and Oversight, Office of the Chief Human Capital Officer.

[FR Doc. 2010-33205 Filed 1-3-11; 8:45 am]

BILLING CODE 4210-67-P